SMALL BUSINESS ADMINISTRATION

[Declaration of Disaster #3393]

State of Missouri

As a result of the President's major disaster declaration on February 6, 2002, I find that Adair, Audrain, Bates, Benton, Boone, Buchanan, Caldwell, Carroll, Cass, Chariton, Clay, Clinton, Cooper, Grundy, Henry, Howard, Jackson, Johnson, Lafayette, Linn, Livingston, Macon, Monroe, Morgan, Pettis, Platte, Randolph, Ray, Saline, Shelby, St. Clair, Sullivan and Vernon Counties in the State of Missouri constitute a disaster area due to damages caused by a severe winter ice storm occurring on January 29, 2002 and continuing. Applications for loans for physical damage as a result of this disaster may be filed until the close of business on April 8, 2002 and for economic injury until the close of business on November 7, 2002 at the address listed below or other locally announced locations: U.S. Small Business Administration, Disaster Area 3 Office, 4400 Amon Carter Blvd., Suite 102, Fort Worth, TX 76155.

In addition, applications for economic injury loans from small businesses located in the following contiguous counties may be filed until the specified date at the above location: Andrew, Barton, Callaway, Camden, Cedar, Cole, Daviess, DeKalb, Harrison, Hickory, Knox, Lewis, Marion, Mercer, Miller, Moniteau, Montgomery, Pike, Polk, Putnam, Ralls, Schuyler and Scotland counties in the State of in Missouri; Atchison, Bourbon, Crawford, Doniphan, Johnson, Leavenworth, Linn, Miami and Wyandotte counties in the State of Kansas.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 339311. For economic injury the number is 9O4600 for Missouri and 9O4700 for Kansas.

(Catalog of Federal Domestic Assistance Program Nos. 59002 and 59008)
Dated: February 7, 2002.
Herbert L. Mitchell,
Associate Administrator for Disaster Assistance.

[FR Doc. 02-3713 Filed 2-14-02; 8:45 am]

BILLING CODE 8025-01-P